DEPARTMENT OF COMMERCE

International Trade Administration

[A-570-806]

Silicon Metal From the People's Republic of China: Final Results and Final No Shipments Determination of Antidumping Duty Administrative Review; 2011-2012

AGENCY: Import Administration, International Trade Administration, Department of Commerce.

SUMMARY: On February 27, 2013, the Department of Commerce (the “Department”) published the Preliminary Results of the 2011-2012 administrative review of the antidumping duty order on silicon metal from the People's Republic of China (“PRC”).¹ The period of review (“POR”) is June 1, 2011, through May 31, 2012. In the Preliminary Results, we determined that the sole company under review, Shanghai Jinneng International Trade Co., Ltd. (“Shanghai Jinneng”), did not have any reviewable transactions during the POR. We gave interested parties an opportunity to comment on the Preliminary Results, but none were received. In these final results of review, we continue to find that Shanghai Jinneng did not have any reviewable transactions during the POR.

¹ See Silicon Metal From the People's Republic of China: Preliminary Results of Antidumping Duty Administrative Review; 2011-2012, 78 FR 13321 (February 27, 2013) (“Preliminary Results”).

DATES: Effective Date: May 20, 2013.

FOR FURTHER INFORMATION CONTACT: Lori Apodaca, AD/CVD Operations, Office 4, Import Administration, International Trade Administration, U.S. Department of Commerce, 14th Street and Constitution Avenue NW., Washington, DC 20230; telephone: (202) 482-4551.

SUPPLEMENTARY INFORMATION:

Background

On February 27, 2013, the Department published the Preliminary Results. We invited interested parties to submit comments on the Preliminary Results, but none were received. The Department has conducted this administrative review in accordance with section 751(a) of the Tariff Act of 1930, as amended (the “Act”).

Scope of the Order

Imports covered by the order are shipments of silicon metal containing at least 96.00 but less than 99.99 percent of silicon by weight. Also covered by the order is silicon metal from the PRC containing between 89.00 and 96.00 percent silicon by weight but which contain a higher aluminum content than the silicon metal containing at least 96.00 percent but less than 99.99 percent silicon by weight. Silicon metal is currently provided for under subheadings 2804.69.10 and 2804.69.50 of the Harmonized Tariff Schedule of the United States (“HTSUS”) as a chemical product, but is commonly referred to as a metal. Semiconductor-grade silicon (silicon metal containing by weight not less than 99.99 percent of silicon and provided for in subheading 2804.61.00 of the HTSUS) is not subject to the order. Although the HTSUS subheadings are provided for convenience and for customs purposes, the written description of the merchandise, as set forth in the order, is dispositive.²

² See Silicon Metal From the People's Republic of China: Continuation of Antidumping Duty Order, 77 FR 23660 (April 20, 2012).

Final Determination of No Shipments

In the Preliminary Results, we preliminarily determined that Shanghai Jinneng did not have any reviewable transactions during the POR. Shanghai Jinneng submitted a timely-filed certification that it had no sales of subject merchandise to the United States during the POR.³ Consistent with the Department's assessment practice in non-market economy (“NME”) cases, we stated in the Preliminary Results that the Department would not rescind the review in these circumstances but, rather, would complete the review with respect to Shanghai Jinneng and issue appropriate instructions to U.S. Customs and Border Protection (“CBP”) based on the final results of the review. As stated above, we did not receive any comments on our Preliminary Results nor did we receive information from CBP indicating that there were reviewable transactions from Shanghai Jinneng during the POR. Therefore, we continue to determine that Shanghai Jinneng had no reviewable transactions of subject merchandise during the POR. Consistent with our “automatic assessment” clarification, the Department will issue appropriate instructions to CBP based on our final results.⁴

³ See Preliminary Results, 78 FR at 13321.

⁴ See Non-Market Economy Antidumping Proceedings: Assessment of Antidumping Duties, 76 FR 65694 (October 24, 2011) (“Assessment Practice Refinement”). See also the “Assessment” section of this notice, below.

Assessment

The Department will determine, and CBP shall assess, antidumping duties on all appropriate entries. The Department intends to issue assessment instructions to CBP 15 days after the date of publication of these final results of review. The Department recently announced a refinement to its assessment practice in NME cases.⁵ Pursuant to this refinement in practice, if the Department determines that an exporter under review had no shipments of the subject merchandise, any suspended entries that entered under that exporter's case number (i.e., at that exporter's rate) will be liquidated at the NME-wide rate.⁶

⁵ See Assessment Practice Refinement.

⁶ See id., 76 FR at 65694.

Cash Deposit Requirements

The following cash deposit requirements will be effective upon publication of the final results of this administrative review for all shipments of the subject merchandise from the PRC entered, or withdrawn from warehouse, for consumption on or after the publication date, as provided by section 751(a)(2)(C) of the Act: (1) For Shanghai Jinneng, which claimed no shipments, the cash deposit rate will remain unchanged from the rate assigned to the company in the most recently completed review of the company; (2) for previously investigated or reviewed PRC and non-PRC exporters who are not under review in this segment of the proceeding but who have separate rates, the cash deposit rate will continue to be the exporter-specific rate published for the most recent period; (3) for all PRC exporters of subject merchandise that have not been found to be entitled to a separate rate the cash deposit rate will be the PRC-wide rate of 139.49 percent; ⁷ and (4) for all non-PRC exporters of subject merchandise which have not received their own rate, the cash deposit rate will be the rate applicable to the PRC exporter(s) that supplied that non-PRC exporter. These deposit requirements, when imposed, shall remain in effect until further notice.

⁷ For an explanation of the calculation of the PRC-wide rate, see Final Determination of Sales at Less Than Fair Value: Silicon Metal from the People's Republic of China, 56 FR 18570, 18571-2 (April 23, 1991).

Notification to Importers Regarding the Reimbursement of Duties

This notice serves as a final reminder to importers of their responsibility under 19 CFR 351.402(f)(2) to file a certificate regarding the reimbursement of antidumping duties prior to liquidation of the relevant entries during this POR. Failure to comply with this requirement could result in the Department's presumption that reimbursement of antidumping duties has occurred and the subsequent assessment of doubled antidumping duties.

Administrative Protective Order

This notice also serves as a reminder to parties subject to the administrative protective order (“APO”) of their responsibility concerning the disposition of proprietary information disclosed under APO in accordance with 19 CFR 351.305(a)(3). Timely notification of the destruction of APO materials or conversion to judicial protective order is hereby requested. Failure to comply with the regulations and the terms of an APO is a sanctionable violation.

We are issuing and publishing these results and this notice in accordance with sections 751(a)(1) and 777(i) of the Act and 19 CFR 351.213(d)(4).

Dated: May 14, 2013.
Paul Piquado,
Assistant Secretary for Import Administration.

[FR Doc. 2013-11968 Filed 5-17-13; 8:45 am]

BILLING CODE 3510-DS-P